DEPARTMENT OF TRANSPORTATION

Federal Aviation Administration

[Policy Statement No. ANM-03-115-28]

Use of Surrogate Parts When Evaluating Seatbacks and Seatback Mounted Accessories for Compliance With §§ 25.562(c)(5) and 25.785(b) and (d)

AGENCY: Federal Aviation Administration (FAA), DOT.

ACTION: Notice of final policy.

SUMMARY: The Federal Aviation Administration (FAA) announces the availability of the final policy on the use of surrogate parts when evaluating seatbacks and seatback mount accessories for compliance with 14 CFR 25.562(c)(5) and 25.785(b) and (d).

DATES: This final policy was issued by the Transport Airplane Directorate on October 2, 2003.

FOR FURTHER INFORMATION CONTACT: Michael T. Thompson, Federal Aviation Administration, Transport Airplane Directorate, Transport Standards Staff, Airframe and Cabin Safety Branch, ANM-115, 1601 Lind Avenue SW., Renton, WA 98055-4056; telephone (425) 227-1157; fax (425) 227-1149; e-mail: michael.t.thompson@faa.gov.

SUPPLEMENTARY INFORMATION:

Discussion of Comments

A notice of proposed policy was published in the Federal Register on July 8, 2003 (68 FR 40732). Four (4) commenters responded to the request for comments.

Background

The policy streamlines the seat certification process by providing Federal Aviation Administration certification policy on using surrogate test articles in lieu of actual production seatback mounted accessories (e.g., video monitor, telephone) or part similar in construction to these production parts, during blunt trauma tests in accordance with §§ 25.562(c)(5) and 25.785(b) and (d).

The final policy as well as the disposition of public comments received is available on the Internet at the following address: http://www.airweb.faa.gov/rgl. If you do not have accesss to the Internet, you can obtain a copy of the policy by contacting the person listed under FOR FURTHER INFORMATION CONTACT.

Issued in Renton, Washington, on October 2, 2003.
K.C. Yanamura,
Acting Manager, Transport Airplane Directorate, Aircraft Certification Service.

[FR Doc. 03-25958 Filed 10-10-03; 8:45 am]

BILLING CODE 4910-13-M